SOCIAL SECURITY ADMINISTRATION

Agency Information Collection Activities; Proposed Request and Notice of Office of Management and Budget (OMB) Approvals

The Social Security Administration (SSA) publishes a list of information collection packages that will require clearance by the OMB in compliance with Pub. L. 104-13 effective October 1, 1995, The Paperwork Reduction Act of 1995. The information collection packages that may be included in this notice are for new information collections, approval of existing information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the SSA Reports Clearance Officer listed below:

(SSA), Social Security Administration, DCFAM, Attn: Reports Clearance Officer, 1338 Annex Bldg., 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Statement for Determining Continuing Eligibility, Supplemental Security Income Payment—20 CFR, subpart B, 416.204—0960-0145. SSA uses from SSA-8202-BK to conduct low- and middle-error-profile (LEP-MEP) telephone or face-to-face redetermination (RZ) interviews with Supplemental Security Income (SSI) recipients and representative payees. The information collected during the interview is used to determine whether SSI recipients have met and continue to meet all statutory and regulatory requirements for SSI eligibility and whether they have been, and are still receiving, the correct payment amount. Form SSA-8202-OCR-SM (Optical Character recognition-Self Mailer) collects information similar to that collected on Form SSA-8202-BK. However it is used exclusively in LEP RZ cases on a 6-year cycle. The respondents are recipients of SSI benefits or their representative payees.

Type of Request: Extension of an OMB-approved information collection.

| Respondents | Frequency of response | Average burden per response (min.) | Estimated annual burden (hours)
SSA-8202-F6 | 920,000 | 1 | 19 | 291,333
SSA-8202-OCR-SM | 800,000 | 1 | 9 | 120,000
Total Burden |  |  |  | 411,333

2. Statement for Determining Continuing Eligibility; Supplemental Security Income Payment(s)—20 CFR, subpart B, 416.204-0960-0416. SSA uses the information collected on form SSA-8203-BK for high-error-profile (HEP) redeterminations of disability to determine whether SSI recipients have met and continue to meet all statutory and regulatory requirements for SSI eligibility and whether they have been, and are still receiving, the correct payment amount. The information is normally completed in field offices by personal contact (face-to-face or telephone interview) using the automated Modernized SSI CLaim System (MSSICS). The respondents are recipients of title XVI SSI benefits.

Type of Request: Extension of an OMB-approved information collection.

Number of Respondents: 920,000.

Frequency of Response: 1.

Average Burden Per Response: 19 minutes.

Estimated Annual Burden: 291,333 hours.

3. Vocational Rehabilitation Provider Claim—20 CFR, subpart V, 404.2104, 404.2108, 404.2113, 404.2117, 404.2121, 416.2204, 416.2208, 416.2213 and 416.2217-0960-0310. The information collected on Form SSA-199-U2 and through these current rules is used by SSA to determine if State vocational rehabilitation agencies are providing appropriate services, including referrals when necessary and whether those claims for services should be paid. The respondents are the 80-100 State vocational rehabilitation agencies and alternate participants who offer vocational and employment services for SSA beneficiaries.

Type of Request: Extension of an OMB-approved information collection.

CFR sections | Number of respondents | Frequency of response | Average burden per response (min.) | Estimated annual burden (hours)
404.2108 & 416.2208 SSA-199 | 90 | 145 (on average) | 23 | 5,003
404.2117 & 416.2217 | 80 | 1 | 160 | 80
404.2121 & 416.2221 | 90 (500 total responses for all participants) | 1 | 100 | 833

Total burden hours for this request—5,916.

4. Information Collections conducted by State Disability Determination Services (DDS) on Behalf of SSA—20 CFR, subpart P, 404.1503a, 404.1512, 404.1513, 404.1514 404.1517, 404.1519; 20 CFR subpart Q, 404.1613, 404.1614, 404.1624; 20 CFR subpart I, 416.903a, 416.912, 416.913, 416.914, 416.917, 416.919 and 20 CFR subpart J, 416.1013, 416.1024, 416.1014-0960-0555. The State DDS's collect certain information to administer SSA's disability program. The information collected is as follows: (1) Medial evidence of record (MER)—DDS's use MER information to determine a person's physical and/or mental status prior to making a disability determination; (2) consultative exam (CE) medical evidence—DDS's use CE medical evidence to make disability determinations when the claimant's own medical sources cannot or will not provide the information; (3) CE claimant forms—The DDS's request that claimants complete and authorization form for the release of consultative exam information to a personal physician and to complete and appointment form to confirm scheduled CE appointments; (4) CE provider information—DDS's use the CE provider information to verify medical providers' credentials and licenses before hiring them to conduct CEs; (5) activities of daily living (ADL)—this information and other medical evidence are part of the evidentiary documentation used by the DDS's in evaluating a person's disability; and (6) pain information—this information is used by the DDS's to assess the effects of symptoms on functioning for determining disability. The respondents are medical providers, other sources of MER and disability claimants.

Type of Request: Extension of an OMB-approved information collection.

(1) MER (Respondents-Medical Providers and Other Sources)

Number of Responses: 6,052,494.

Frequency of Response: Unknown.

Average Burden Per Response: 15 minutes.

Estimate Annual Burden: 1,513,124.

(2) CE Medical Evidence (Respondents-Medical Providers)

Number of Responses: 1,640,269.

Frequency of Response: Unknown.

Average Burden Per Response: 30 minutes.

Estimated Annual Burden: 820,135 hours.

(3) CE Forms (Respondents—Claimants)

| Appointment form | Medical release
Number of Respondents | 820,134 | 1,640,269
Frequency of Response | 1 | 1
Average Burden Per Response | 5 | 5
Estimated Annual Burden (in hours) | 68,345 | 136,689

(4) CE Providers (Respondents—Medical Providers)

Number of Responses: 3,000.

Frequency of Response: 1.

Average Burden: 20 minutes.

Estimated Annual Burden: 1,000 hours.

(5) ADL Forms (Respondents—Claimants)

Number of Responses: 2,000,000.

Frequency of Response: 1.

Average Burden Per Response: 15 minutes.

Estimated Annual Burden: 500,000 hours.

(6) Pain Forms (Respondents—Claimants)

Number of Responses: 1,000,000.

Frequency of Response: 1.

Average Burden Per Response: 15 minutes.

Estimated Annual Burden: 250,000 hours.

II. Notice of OMB Approval

As required by the Paperwork Reduction Act of 1995 (44 U.S.C. 3507), the Social Security Administration (SSA) is providing notice of OMB's approval of the following information collections:

1. 20 CFR 404 subpart J & 416 subpart N—Video Teleconferencing Appearances before Administrative Law Judges, associated form SSA—504. The OMB Number is 0960-0671, which expires November 30, 2004.

2. 20 CFR parts 404.617 and 416.327—Claimant Identification Pilot Project. The OMB Number is 0960-0664, which expires May 31, 2006.

In accordance with the Paperwork Reduction Act, persons are not required to respond to an information collection unless it displays a valid Office of Management and Budget control number.

Dated: July 25, 2003.
Elizabeth A. Davidson,
Reports Clearance Officer, Social Security Administration.

[FR Doc. 03-19474 Filed 7-31-03; 8:45 am]

BILLING CODE 4191-02-M